DEPARTMENT OF TRANSPORTATION

Federal Aviation Administration

Agency Information Collection Activity Under OMB Review, Request for Comments; Renewal of an Approved Information Collection Activity, Procedures for Non-Federal Navigation Facilities

AGENCY: Federal Aviation Administration (FAA), DOT.

ACTION: Notice and request for comments.

SUMMARY: The information kept is used by the FAA as proof that non-Federal navigation facilities are maintained within certain specified tolerances.

DATES: Please submit comments by November 21, 2005.

FOR FURTHER INFORMATION CONTACT: Judy Street on (202) 267-9895.

SUPPLEMENTARY INFORMATION:

Federal Aviation Administration (FAA).

Title: Procedures for Non-Federal Navigation Facilities.

Type of Request: Renewal of an approved collection.

OMB Control Number: 2120-0014.

Forms(s): None.

Affected Public: A total of 2413 navigation facility operators.

Frequency: The information is conducted on an as-needed basis.

Estimated Average Burden Per Response: Approximately 14 hours per response.

Estimated Annual Burden Hours: An estimated 33,116 hours annually.

Abstract: The non-Federal navigation facilities are electrical/electronic aids to air navigation which are purchased, installed, operated, and maintained by an entity other than the FAA and are available for use by the flying public. These aids may be located at unattended remote sites or airport terminals. The information kept is used by the FAA as proof that the facility is maintained within certain specified tolerances.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 14, 2005.
Judith D. Street,
FAA Information Collection Clearance Officer, Information Systems and Technology Services Staff, ABA-20.

[FR Doc. 05-21001 Filed 10-19-05; 8:45am]

BILLING CODE 4910-13-M